ENVIRONMENTAL PROTECTION AGENCY

[FRL-9902-21-ORD; Docket ID No. EPA-HQ-ORD-2013-0723]

Best Practices for Continuous Monitoring of Temperature and Flow in Wadeable Streams

AGENCY: Environmental Protection Agency (EPA).

ACTION: Notice of public comment period and letter peer review.

SUMMARY: EPA is announcing a 30-day public comment period for the draft document titled, “Best Practices for Continuous Monitoring of Temperature and Flow in Wadeable Streams” (EPA/600/R-13/170). The EPA also is announcing that either ERG or Versar, EPA contractors for external scientific peer review, will select an independent group of experts to conduct a letter peer review of the draft document. The document was prepared by the National Center for Environmental Assessment (NCEA) within EPA's Office of Research and Development. The report describes best practices for the deployment of continuous temperature and flow sensors in wadeable streams. This document addresses questions related to equipment needs, configuration, placement, installation techniques, data retrieval, and data processing.

EPA is releasing the draft report for the purposes of public comment and peer review. The draft document is available via the Internet on the NCEA home page under the Recent Additions and the Data and Publications menus at www.epa.gov/ncea. This draft report is not final as described in EPA's information quality guidelines, and does not represent and should not be construed to represent Agency policy or views. EPA intends to forward the public comments that are submitted in accordance with this notice to the external peer reviewers for their consideration during the letter review. When finalizing the draft document, EPA intends to consider any public comments that EPA receives in accordance with this notice.

DATES: The 30-day public comment period begins October 31, 2013, and ends December 2, 2013. Technical comments should be in writing and must be received by EPA by December 2, 2013.

ADDRESSES: The draft document, “Best Practices for Continuous Monitoring of Temperature and Flow in Wadeable Streams,” is available primarily via the Internet on the NCEA home page under the Recent Additions and the Data and Publications menus at www.epa.gov/ncea. A limited number of paper copies will be available from the Information Management Team, NCEA; telephone: 703-347-8561; facsimile: 703-347-8691. If you are requesting a paper copy, please provide your name, mailing address, and the document title, “Best Practices for Continuous Monitoring of Temperature and Flow in Wadeable Streams,” (EPA/600/R-13/170) to facilitate processing of your request.

Comments may be submitted electronically via www.regulations.gov, by mail, by facsimile, or by hand delivery/courier. Please follow the detailed instructions provided in the SUPPLEMENTARY INFORMATION section of this notice.

FOR FURTHER INFORMATION CONTACT: For information on the public comment period, contact the ORD Docket at the EPA Headquarters Docket Center; telephone: 202-566-1752; facsimile: 202-566-9744; or email: Docket_ORD@epa.gov.

For technical information, contact Dr. Britta Bierwagen, NCEA; telephone: 703-347-8613; facsimile: 703-347-8694; or email: bierwagen.britta@epa.gov.

SUPPLEMENTARY INFORMATION:

I. Information About the Project/Document

The lack of continuous temperature and flow data for minimally disturbed, free-flowing freshwater wadeable streams is an impediment to analyses of long-term trends in biological, thermal, and hydrologic data. In recent years, there has been substantial interest in developing regional monitoring networks with states and EPA regional offices to detect long-term climate change-related impacts on aquatic communities in freshwater streams. Current participants, including states in the Northeast, Mid-Atlantic and Southeast, are initiating collection of thermal, hydrologic, and biological data from targeted sites in each state. To help further this effort, EPA and collaborators have written a best practices document to facilitate more uniform and effective collection of continuous temperature and water depth data at ungaged sites in wadeable streams. This document addresses questions related to equipment needs, configuration, placement, installation techniques, data retrieval, and data processing. The collection of these data will further efforts to detect and track climate change-related impacts over the long term, further our understanding of how thermal, hydrologic, and biological conditions vary spatially and temporally and inter-relate to one another, and help inform state and federal agencies on how to attribute altered environmental conditions to climate change versus other stressors.

II. How To Submit Technical Comments to the Docket at www.regulations.gov

Submit your comments, identified by Docket ID No. EPA-HQ-ORD-2013-0723, by one of the following methods:

• www.regulations.gov: Follow the on-line instructions for submitting comments.

• Email: Docket_ORD@epa.gov.

• Fax: 202-566-9744.

• Mail: U.S. Environmental Protection Agency, EPA Docket Center (ORD Docket), [Mail Code: 28221T], 1200 Pennsylvania Avenue NW., Washington, DC 20460. The phone number is 202-566-1752. If you provide comments by mail, please submit one unbound original with pages numbered consecutively, and three copies of the comments. For attachments, provide an index, number pages consecutively with the comments, and submit an unbound original and three copies.

• Hand Delivery: The ORD Docket is located in the EPA Headquarters Docket Center, EPA West Building, Room 3334, 1301 Constitution Avenue NW., Washington, DC. The EPA Docket Center's Public Reading Room is open from 8:30 a.m. to 4:30 p.m., Monday through Friday, excluding legal holidays. The telephone number for the Public Reading Room is 202-566-1744. Deliveries are only accepted during the docket's normal hours of operation, and special arrangements should be made for deliveries of boxed information. If you provide comments by hand delivery, please submit one unbound original with pages numbered consecutively, and three copies of the comments. For attachments, provide an index, number pages consecutively with the comments, and submit an unbound original and three copies.

Instructions: Direct your comments to Docket ID No. EPA-HQ-ORD-2013-0723. Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center home page at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically at www.regulations.gov or in hard copy at the ORD Docket in the EPA Headquarters Docket Center.

Dated: October 23, 2013.
Abdel-Razak M. Kadry,
Acting Director, National Center for Environmental Assessment.

[FR Doc. 2013-25845 Filed 10-30-13; 8:45 am]

BILLING CODE 6560-50-P